DEPARTMENT OF COMMERCE

National Oceanic and Atmospheric Administration

[RTID 0648-XE954]

Marine Mammals; File No. 24378

AGENCY: National Marine Fisheries Service (NMFS), National Oceanic and Atmospheric Administration (NOAA), Commerce.

ACTION: Notice; issuance of permit amendment.

SUMMARY: Notice is hereby given that a major amendment to Permit No. 24378-01 has been issued to the University of Alaska Southeast, 1332 Seward Ave, Sitka, AK 99835 (Responsible Party: Jan Straley).

ADDRESSES: The permit amendment and related documents are available for review upon written request via email to NMFS.Pr1Comments@noaa.gov.

FOR FURTHER INFORMATION CONTACT: Shasta McClenahan, Ph.D., or Courtney Smith, Ph.D., (301) 427-8401.

SUPPLEMENTARY INFORMATION: On March 28, 2025, notice was published in the Federal Register (90 FR 14118) that a request for an amendment to Permit No. 24378-01 to conduct research on marine mammals had been submitted by the above-named applicant. The requested permit amendment has been issued under the authority of the Marine Mammal Protection Act of 1972, as amended (16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222 through 226), and the Fur Seal Act of 1966, as amended (16 U.S.C. 1151 et seq.).

Permit No. 24378-01, issued on April 28, 2023 (87 FR 80527, December 30, 2022), authorizes research on 18 species of cetaceans in Alaska, focusing on gray (Eschrichtius robustus), humpback (Megaptera novaeangliae), killer (Orcinus orca), and sperm (Physeter macrocephalus) whales. The permitted objectives are to further the biological understanding of Alaskan cetaceans by evaluating species abundance, population and stock structure, life history parameters, foraging behavior and prey specialization, social behavior, seasonal movements and migrations, and depredation interactions with longline fishing vessels. Research methods include close approach by vessels and unmanned aircraft systems for photo-identification, observations, underwater photography/video, acoustic prey mapping, biological sampling (prey remains, exhaled air, sloughed skin, feces, eDNA, skin and blubber biopsy), and tagging (suction-cup and dart/barb). Marine mammal parts may be exported for analysis. The permit amendment No. 24378-02 was issued on May 20, 2025, and authorized an increase in annual take numbers of gray whales to account for an unanticipated increase in observed gray whale numbers in Sitka Sound, and to allow researchers to continue their efforts to better understand population dynamics, demographics, body condition, and foraging strategies. The permit expires on April 30, 2026.

In compliance with the National Environmental Policy Act of 1969 (42 U.S.C. 4321 et seq.), a final determination has been made that the activity proposed is categorically excluded from the requirement to prepare an environmental assessment or environmental impact statement.

As required by the ESA, issuance of this permit was based on a finding that such permit: (1) was applied for in good faith; (2) will not operate to the disadvantage of such endangered species; and (3) is consistent with the purposes and policies set forth in section 2 of the ESA.

Dated: May 29, 2025.
Shannon Bettridge,
Chief, Marine Mammal and Sea Turtle Conservation Division, Office of Protected Resources, National Marine Fisheries Service.

[FR Doc. 2025-10085 Filed 6-2-25; 8:45 am]

BILLING CODE 3510-22-P